DEPARTMENT OF THE INTERIOR

National Park Service

National Register of Historic Places; Notification of Pending Nominations and Related Actions

Nominations for the following properties being considered for listing or related actions in the National Register were received by the National Park Service before January 2, 2010. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 4, 2010.

J. Paul Loether,
Chief, National Register of Historic Places/National Historic Landmarks Program.

ARKANSAS

Pulaski County

Main Street Commercial Historic District, (Pulaski County MRA) 300 block of S. Main St. bounded by E. 3rd on the N. and E. 4th on the S., Little Rock, 10000001

IOWA

Clay County

Spencer High School and Auditorium, 104 E. 4th St., Spencer, 10000002

Wapello County

Garner, J.W., Building, (Ottumwa MPS) 222-224 E. 2nd St., Ottumwa, 10000003

MASSACHUSETTS

Norfolk County

Pond Street School, 235 Pond St., Weymouth, 10000004

MISSOURI

Jackson County

George, Todd M., Sr., House, (Lee's Summit, Missouri MPS) 408 SE. 3rd St., Lee's Summit, 10000007

NEW YORK

Essex County

Mt. Van Hoevenberg Olympic Bobsled Run, 220 Bob Run Ln., Lake Placid, 10000008

Kings County

Jewish Center of Kings Highway, 1202-1218 Ave. P., Brooklyn, 10000009

Kingsway Jewish Center, 2810 Nostrand Ave., Brooklyn, 10000010

Young Israel of Flatbush, 1012 Ave. I, Brooklyn, 10000011

New York County

Chinatown and Little Italy Historic District, Roughly bounded by Baxter St., Centre St., Cleveland Pl. and Lafayette St. to the W.; Jersey St. and E. Houston, New York, 10000012

Onondaga County

Skoler, Louis and Celia, Residence, The, 213 Scottholm Terrace, Syracuse, 10000013

Ulster County

Cumming-Parker House, 50 Appletree Rd., Esopus, 10000014

OREGON

Marion County

Salem Southern Pacific Railroad Station, 500 13th Ave. SE, Salem, 10000015

Multnomah County

Arnold-Park Log Home, 12000 SW. Boones Ferry Rd., Portland, 10000016

In the interest of preservation the comment period for the following resource has been shortened to three (3) days:

MASSACHUSETTS

Worcester County

Lancaster Mills, 1-55, 75, 99, 1-R Green St., 20 Cameron St., Clinton, 10000005

[FR Doc. 2010-906 Filed 1-19-10; 8:45 am]

BILLING CODE P